COMMISSION ON CIVIL RIGHTS

Notice of Public Meeting of the Georgia Advisory Committee

AGENCY: U.S. Commission on Civil Rights.

ACTION: Announcement of meeting.

SUMMARY: Notice is hereby given, pursuant to the provisions of the rules and regulations of the U.S. Commission on Civil Rights (Commission) and the Federal Advisory Committee Act that the Georgia Advisory Committee will hold a meeting on Tuesday, August 29, 2017, for continuing the discussion of project implementation.

DATES: The meeting will be held on Tuesday August 29, 2017 at 12:00 p.m. EST.

ADDRESSES: The meeting will be held via teleconference. Toll-free call-in number: 877-874-1565, conference ID: 9651290.

FOR FURTHER INFORMATION CONTACT: Jeffrey Hinton, DFO, at jhinton@usccr.gov or 404-562-7006.

SUPPLEMENTARY INFORMATION: Members of the public can listen to the discussion. This meeting is available to the public through the following toll-free call-in number: 877-874-1565, conference ID: 9651290. Any interested member of the public may call this number and listen to the meeting. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and conference ID number.

Members of the public are also entitled to submit written comments; the comments must be received in the regional office by August 25, 2017. Written comments may be mailed to the Southern Regional Office, U.S. Commission on Civil Rights, 61 Forsyth Street, Suite 16T126, Atlanta, GA 30303. They may also be faxed to the Commission at (404) 562-7005, or emailed to Regional Director, Jeffrey Hinton at jhinton@usccr.gov. Persons who desire additional information may contact the Southern Regional Office at (404) 562-7000.

Records generated from this meeting may be inspected and reproduced at the Southern Regional Office, as they become available, both before and after the meeting. Records of the meeting will be available via www.facadatabase.gov under the Commission on Civil Rights, North Carolina Advisory Committee link. Persons interested in the work of this Committee are directed to the Commission's Web site, http://www.usccr.gov, or may contact the Southern Regional Office at the above email or street address.

Agenda

Welcome and Introductions

Jeff Hinton, Regional Director; Jerry Gonzalez, Chair Georgia SAC

Regional Update—Jeff Hinton

Discussion of implementation process (Continuation) to the public hearing—Jerry Gonzalez, Chair Georgia SAC

State Advisory Committee (SAC) members

Public comments

Adjournment

Dated: August 3, 2017.
David Mussatt,
Supervisory Chief, Regional Programs Unit.

[FR Doc. 2017-16665 Filed 8-7-17; 8:45 am]

BILLING CODE P